DEPARTMENT OF COMMERCE

International Trade Administration

[C-570-094]

Refillable Stainless Steel Kegs From the People's Republic of China: Postponement of Preliminary Determination in the Countervailing Duty Investigation

AGENCY: Enforcement and Compliance, International Trade Administration, Department of Commerce.

DATES: Applicable December 4, 2018.

FOR FURTHER INFORMATION CONTACT: Nicholas Czajkowski or Robert Brown, AD/CVD Operations, Office I, Enforcement and Compliance, International Trade Administration, U.S. Department of Commerce, 1401 Constitution Avenue NW, Washington, DC 20230; telephone (202) 482-1395 or (202) 482-3702, respectively.

SUPPLEMENTARY INFORMATION:

Background

On October 10, 2018, the Department of Commerce (Commerce) initiated the countervailing duty (CVD) investigation of imports of refillable stainless steel kegs (kegs) from the People's Republic of China.¹ The preliminary determination is currently due no later than December 14, 2018.

¹ See Refillable Stainless Steel Kegs: Initiation of Countervailing Duty Investigation, 83 FR 52192 (October 16, 2018).

Postponement of Preliminary Determination

Section 703(b)(1) of the Tariff Act of 1930, as amended (the Act), requires Commerce to issue the preliminary determination in a CVD investigation within 65 days of the date on which Commerce initiated the investigation. However, if the petitioner makes a request for an extension of the period within which the determination must be made, section 703(c)(1)(A) of the Act allows Commerce to postpone making the preliminary determination until no later than 130 days after the date on which the administering authority initiated the investigation.

On November 27, 2018, the petitioner ² submitted a request pursuant to section 703(c)(1)(A) of the Act and 19 CFR 351.205(e) to postpone the preliminary determination.³ The petitioner states that additional time is necessary in light of the number of programs under investigation and the expected complexity of the issues.

² The petitioner is American Keg Company LLC.

³ See the petitioner's Letter dated November 27, 2018, requesting postponement of the preliminary determination.

For the reasons stated above, Commerce, in accordance with section 703(c)(l)(B) of the Act, is postponing the deadline for the preliminary determination to no later than 130 days after the day on which Commerce initiated this investigation. Therefore, the new deadline for the preliminary determination is February 19, 2019.⁴ Pursuant to section 705(a)(1) of the Act and 19 CFR 351.210(b)(1), the deadline for the final determination will continue to be 75 days after the date of the preliminary determination, unless postponed.

⁴ The actual deadline is February 17, 2019, which is a Sunday. Further, Monday, February 18, 2018 is a Federal holiday. In accordance with Commerce's practice, where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published in accordance with section 703(c)(2) of the Act and 19 CFR 351.205(f)(1).

Dated: November 28, 2018.
Gary Taverman,
Deputy Assistant Secretary for Antidumping and Countervailing Duty Operations, performing the non-exclusive functions and duties of the Assistant Secretary for Enforcement and Compliance.

[FR Doc. 2018-26316 Filed 12-3-18; 8:45 am]

BILLING CODE 3510-DS-P